CHEMICAL SAFETY AND HAZARD INVESTIGATION BOARD

Sunshine Act Meeting

TIME AND DATE: June 5, 2014, 4 p.m.-7 p.m. c.d.t.

PLACE: Hilton Americas, 1600 Lamar Street, Houston, TX 77010.

STATUS: Open to the public.

MATTERS TO BE CONSIDERED: The Chemical Safety and Hazard Investigation Board (CSB) will convene a public meeting on June 5, 2014, starting at 4:00 p.m. CDT, at the Hilton Americas Hotel, Grand Ballroom, Houston, Texas 77010.

At the public meeting, the Board will consider and vote on the executive summary and first two volumes of the CSB's report into the April 20, 2010 blowout of the Macondo well in the Gulf of Mexico. The Macondo incident had a catastrophic impact. Eleven workers died, 17 others were seriously injured, and millions of barrels of oil spilled into the Gulf of Mexico, making it one of the largest environmental disasters in U.S. history. The CSB, at the request of the Chairman of the House Committee on Energy and Commerce, launched an independent investigation with a broad mandate to examine not only the technical factors surrounding the incident, but also certain organizational issues and opportunities for improvement to regulatory standards and industry best practices offshore.

Following a presentation by CSB investigators, the Board will hear public comments related to the report. The staff presentations are preliminary and are intended solely to allow the Board to publicly consider the findings and potential recommendations for this case. No factual analyses, conclusions, or findings presented by staff should be considered final. The Board may vote to adopt the final investigation report and recommendations after hearing staff presentations and public comments.

Public Comment

Members of the public are invited to make brief statements to the Board at the conclusion of the staff presentations. The time provided for public statements will depend upon the number of people who wish to speak. Speakers should assume that their presentations will be limited to five minutes or less, but commenters may submit written statements for the record.

Additional Information

The meeting is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems. General information about the CSB can be found on the agency Web site at: www.csb.gov.

Contact Person for Further Information

Hillary J. Cohen, Communications Manager, hillary.cohen@csb.gov or (202) 446-8094.

Dated: May 23, 2014.
Daniel M. Horowitz,
Managing Director.

[FR Doc. 2014-12485 Filed 5-23-14; 4:15 pm]

BILLING CODE 6350-01-P